DEPARTMENT OF COMMERCE

Foreign-Trade Zones Board

Docket A(27f)-44-07

Foreign-Trade Zone 149--Freeport, TX, Request for Minor Modification--Subzone 149C, ConocoPhillips Petroleum Company, Sweeny, TX, (Crude Oil Refinery Complex)

An application has been submitted to the Foreign-Trade Zones Board (the Board) by the Port of Freeport, grantee of FTZ 149, requesting authority on behalf of the ConocoPhillips Company (ConocoPhillips), pursuant to section 400.27(f) of the Board's regulations, for a minor modification to the list of products that can be produced from non-privileged (NPF) inputs referenced in Restriction #2 of FTZ Board Order 920 (62 FR 51830, 10/3/97), Board Order 1116 (65 FR 52696, 8/30/00) and Board Order 1488 (71 FR 67329, 11/21/06), authorizing Subzone 149C at ConocoPhillips' oil refinery complex in Sweeny, Texas. The application was submitted pursuant to the provisions of the Foreign-Trade Zones Act, as amended (19 U.S.C. 81a-81u), and the regulations of the Board (15 CFR part 400).

The company is requesting that an additional refinery product - cyclohexane (HTSUS 2902.11.0000, duty-free) - be added to the list of petrochemical feedstocks and refinery by-products that can be produced from NPF status inputs (e.g., crude oil) at the refinery. The list is referenced as Appendix “C” of the Examiner's Report and in Board Orders 920, 1116 and 1488, Restriction #2.

Public comment is invited from interested parties. Submissions (original and 3 copies) shall be addressed to the Board's Executive Secretary at the address below. The closing period for their receipt is October 15, 2007. Rebuttal comments in response to material submitted during the foregoing period may be submitted during the subsequent 15-day period to October 29, 2007.

A copy of the application and accompanying exhibits will be available for public inspection at the following location:

Office of the Executive Secretary, Foreign-Trade Zones Board, U.S. Department of Commerce, Room 2111, 1401 Constitution Ave. NW., Washington, DC 20230.

For further information, contact Elizabeth Whiteman at Elizabeth_Whiteman@ita.doc.gov or (202) 482-0473.

Dated: September 5, 2007.
Andrew McGilvray,
Executive Secretary.

[FR Doc. E7-18160 Filed 9-13-07; 8:45 am]

BILLING CODE 3510-DS-S